DEFENSE BASE CLOSURE AND REALIGNMENT COMMISSION

Notice of the Defense Base Closure and Realignment Commission—Change to the Agenda of a Previously Announced Open Meeting (Atlanta, GA); Correction

AGENCY: Defense Base Closure and Realignment Commission.

ACTION: Notice.

SUMMARY: The Defense Base Closure and Realignment Commission published a document in the Federal Register of June 21, 2005, concerning an open meeting to receive comments from the Department of Homeland Security and the Governors and Adjutants General of various states on base realignment and closure actions recommended by the Department of Defense (DoD) that have an impact on the Department of Homeland Security and the militia of the various states. The agenda for the meeting has changed. The Adjutants General Association of the United States, rather than the National Governors' Association, will present comments on base realignment and closure actions recommended by the Department of Defense (DoD) that have an impact on the militia of the various states.

The delay of this change notice resulted from a recent change to the agenda and the short time-frame established by statute for the operations of the Defense Base Closure and Realignment Commission. The Commission requests that the public consult the 2005 Defense Base Closure and Realignment Commission Web site, http://www.brac.gov, for updates.

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Correction

In the Federal Register of June 21, 2005, in FR Doc. 05-12084, on page 35642, in the first and second columns, correct the “Summary” caption to read:

SUMMARY: Notice is hereby given that a delegation of Commissioners of the Defense Base Closure and Realignment Commission will hold an open meeting on June 30, 2005 from 1:30 p.m. to 5:30 p.m. at the Georgia Tech Hotel and Conference Center, 800 Spring Street Northwest, Atlanta, Georgia 30308. The Commission requests that the public consult the 2005 Defense Base Closure and Realignment Commission Web site, http://www.brac.gov, for updates.

The Commission delegation will meet to receive comment from the Department of Homeland Security and the Adjutants General of various states on base realignment and closure actions recommended by the Department of Defense (DoD) that have an impact on the Department of Homeland Security and the militia of the various states. The purpose of this open meeting is to allow the Department of Homeland Security and representative Adjutants General, selected by the Adjutants General Association of the United States, an opportunity to voice their concerns, counter-arguments, and opinions in a live public forum. This meeting will be open to the public, subject to the availability of space. Sign language interpretation will be provided. The delegation will not render decisions regarding the DoD recommendations at this meeting, but will gather information for later deliberations by the Commission as a whole.

Dated: June 27, 2005.
Jeannette Owings-Ballard,
Administrative Support Officer.

[FR Doc. 05-13002 Filed 6-28-05; 11:50 am]

BILLING CODE 5001-06-P